INTERNATIONAL TRADE COMMISSION

[Investigation No. 337-TA-943]

Certain Wireless Headsets; Commission Determination To Grant Joint Motions To Amend the Notice of Investigation and To Terminate the Investigation in Part as to Respondent Aliphcom d/b/a/ Jawbone on the Basis of a Settlement Agreement

AGENCY: U.S. International Trade Commission.

ACTION: Notice.

SUMMARY: Notice is hereby given that the U.S. International Trade Commission has determined to grant an amended joint motion to amend the Notice of Investigation to correct the name of respondent Jawbone, Inc. to AliphCom d/b/a/ Jawbone (“AliphCom”) and a joint motion to terminate the above-captioned investigation in part as to respondent AliphCom based upon a settlement agreement.

FOR FURTHER INFORMATION CONTACT: Megan M. Valentine, Office of the General Counsel, U.S. International Trade Commission, 500 E Street SW., Washington, DC 20436, telephone (202) 708-2301. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on January 13, 2015, based on a complaint filed by One-E-Way, Inc. of Pasadena, California (“One-E-Way”). 80 FR 1663 (Jan. 13, 2015). The complaint alleges violations of section 337 of the Tariff Act of 1930, as amended, 19 U.S.C. 1337, in the importation into the United States, the sale for importation, and the sale within the United States after importation of certain wireless headsets by reason of infringement of certain claims of U.S. Patent Nos. 7,865,258 (“the '258 patent”) and 8,131,391 (“the '391 patent”). Id. The notice of investigation named several respondents, including Sony Corporation of Tokyo, Japan; Sony Corporation of America of New York, New York; and Sony Electronics, Inc. of San Diego, California (collectively, “Sony”); Beats Electronics, LLC of Culver City, California and Beats Electronics International Ltd. of Dublin, Ireland (collectively, “Beats”); Sennheiser Electronic GmbH & Co. KG of Wedemark, Germany and Sennheiser Electronic Corporation of Old Lyme, Connecticut (collectively, “Sennheiser”); BlueAnt Wireless Pty, Ltd. of Richmond, Australia and BlueAnt Wireless, Inc. of Chicago, Illinois (collectively, “BlueAnt”); Creative Technology Ltd. of Singapore and Creative Labs, Inc. of Milpitas, California (collectively, “Creative Labs”); GN Netcom A/S d/b/a Jabra of Ballerup, Denmark (“GN Netcom”); and Jawbone, Inc. of San Francisco, California. Id. The Office of Unfair Import Investigations (OUII) also was named as a party to the investigation. Id. The Commission previously terminated the investigation with respect to Beats and Sennheiser. See Notice (Apr. 29, 2015); Notice (June 11, 2015). The Commission also previously terminated the investigation with respect to certain claims of the '258 and '391 patents. See Notice (May 26, 2015); Notice (Aug. 26, 2015).

On December 23, 2015, One-E-Way and respondent Jawbone, Inc. (styled in the motion as AliphCom) filed a joint motion to terminate the investigation as to AliphCom based on a settlement agreement pursuant to section 210.21(b) of the Commission's Rules of Practice and Procedure (19 CFR 210.21(b)). One-E-Way and AliphCom additionally requested that service of the unredacted version of the settlement agreements be limited to the Commission investigative attorney (“IA”). On December 24, 2015, the IA filed a response supporting the joint motion and agreeing that restricted service was appropriate. No other party filed a response to the joint motion.

On January 12, 2016, One-E-Way and respondent Jawbone, Inc. (styled in the motion as Aliphcom) filed a joint motion to amend the Notice of Investigation to correct the name of respondent Jawbone, Inc. to AliphCom d/b/a/ Jawbone. On January 14, 2016, One-E-Way and Jawbone, Inc. filed an amended joint motion to amend the Notice of Investigation, indicating that the remaining respondents and the IA do not oppose or object to the motion.

The Commission has determined to amend the Notice of Investigation as requested and to terminate the investigation as to AliphCom. The Commission finds that the joint motion to terminate complies with the requirements of section 210.21(b)(1) of the Commission's Rules of Practice and Procedure (19 CFR 210.21(b)(1)), and that there are no extraordinary circumstances that would prevent the requested termination. The Commission also finds that granting the motion would not be contrary to the public interest pursuant to section 210.50(b)(2) of the Commission's Rules of Practice and Procedure (19 CFR 210.20(b)(2)). The Commission has also determined to restrict service of the confidential versions of the settlement agreements between One-E-Way and AliphCom to the IA.

The authority for the Commission's determination is contained in section 337 of the Tariff Act of 1930, as amended (19 U.S.C. 1337), and in Part 210 of the Commission's Rules of Practice and Procedure (19 CFR part 210).

By order of the Commission.
Issued: February 16, 2016.
Lisa R. Barton,
Secretary to the Commission.

[FR Doc. 2016-03513 Filed 2-19-16; 8:45 am]

BILLING CODE 7020-02-P